DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by November 15, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: 2020 Local Foods Marketing Practices Survey—Substantive Change.

OMB Control Number: 0535-0259.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The National Agricultural Statistics Service (NASS) is seeking approval for this substantive change request to the 2020 Local Foods Marketing Practices Survey. NASS seeks approval to collect additional information of agricultural products marketed as local foods during 2020. In early 2021, NASS collected detailed data on 2020 local food marketing practices. This information came from farmers and ranchers who had previously reported local food marketing activity on prior surveys and census. Upon reviewing the data, a change in the local food marketing patterns was observed which now requires contacting additional producers to get the complete picture of local food marketing practices. As a result, NASS intends to collect additional information from those not previously indicating prior local food marketings. The November 18, 2021 Local Foods release will be delayed until this information along with data collected earlier this year are combined. This information is expected to be released in the first half of 2022.

Need and Use of the Information: The information to be gathered in the Local Food Marketing Practices Survey is vital to the USDA's and the public's understanding of the local foods sector, which in turn informs policymaking and program implementation.

Description of Respondents: Farms: Individuals or households.

Number of Respondents: 30,000.

Frequency of Responses: Once.

Total Burden Hours: 10,799.

Dated: October 12, 2021.
Levi S. Harrell,
Departmental Information Collection Clearance Officer.

[FR Doc. 2021-22504 Filed 10-14-21; 8:45 am]

BILLING CODE 3410-20-P